DEPARTMENT OF JUSTICE

Drug Enforcement Administration

[Docket No. DEA-561]

Bulk Manufacturer of Controlled Substances Application: Kinetochem LLC

ACTION: Notice of application.

DATES: Registered bulk manufacturers of the affected basic classes, and applicants therefore, may file written comments on or objections to the issuance of the proposed registration on or before February 24, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on October 25, 2019, Kinetochem LLC, 111 W Cooperative Way, Suite 310-B, Georgetown, Texas 78626 applied to be registered as a bulk manufacturer of the following basic classes of controlled substances:

Controlled substance | Drug code | Schedule
Marihuana | 7360 | I
Tetrahydrocannabinols | 7370 | I

The company plans to synthetically manufacture drug codes 7360 (marihuana) and 7370 (tetrahydrocannabinols), in bulk for distribution and sale to its customers. No other activities for these drug codes are authorized for this registration.

Dated: December 6, 2019.
William T. McDermott,
Assistant Administrator.

[FR Doc. 2019-27784 Filed 12-23-19; 8:45 am]

BILLING CODE 4410-09-P